SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2020

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (f)(13) and 18 CFR 806.22 (f) for the time period specified above:

Water Source Approval—Issued Under 18 CFR 806.22(f):

1. Tilden Marcellus, LLC; Pad ID: State 822 Pad; ABR-202005003; Gaines Township, Tioga County, Pa.; Consumptive Use of Up to 4.9900 mgd; Approval Date: May 3, 2020.

2. Tilden Marcellus, LLC; Pad ID: State 815 Pad; ABR-202005004; Elk & Gaines Townships, Tioga County, Pa.; Consumptive Use of Up to 4.9900 mgd; Approval Date: May 3, 2020.

3. Chief Oil & Gas, LLC.; Pad ID: Cahill Realty Business Unit Pad; ABR-202005005; Overton Township, Bradford County, Pa.; Consumptive Use of Up to 2.5000 mgd; Approval Date: May 3, 2020.

4. Repsol Oil & Gas USA, LLC; Pad ID: DCNR (02 006); ABR-20100355.R2; Ward Township, Tioga County, Pa.; Consumptive Use of Up to 6.0000 mgd; Approval Date: May 3, 2020.

5. SWN Production Company, LLC.; Pad ID: LU-10 ELLY MAY—PAD; ABR-202005001; Cogan House Township, Lycoming County, Pa.; Consumptive Use of Up to 4.9990 mgd; Approval Date: May 8, 2020.

6. Chief Oil & Gas, LLC.; Pad ID: Kingsley Drilling Pad #1; ABR-20100336.R2; Monroe Township, Bradford County, Pa.; Consumptive Use of Up to 2.0000 mgd; Approval Date: May 8, 2020.

7. SWN Production Company, LLC.; Pad ID: Reeve; ABR-20100403.R2; Herrick Township, Bradford County, Pa.; Consumptive Use of Up to 4.9990 mgd; Approval Date: May 8, 2020.

8. EXCO Resources (PA), LLC; Pad ID: Kensinger 3H Drilling Pad #1; ABR-20100205.R2; Penn Township, Lycoming County, Pa.; Consumptive Use of Up to 8.0000 mgd; Approval Date: May 11, 2020.

9. SWEPI LP; Pad ID: Cascarino 443; ABR-20100222.R2; Shippen Township, Tioga County, Pa.; Consumptive Use of Up to 3.0000 mgd; Approval Date: May 11, 2020.

10. Chesapeake Appalachia, L.L.C.; Pad ID: Alton; ABR-20100411.R2; Ulster Township, Bradford County, Pa.; Consumptive Use of Up to 7.5000 mgd; Approval Date: May 13, 2020.

11. Repsol Oil & Gas USA, LLC; Pad ID: DCNR 587 (02 014); ABR-20100309.R2; Ward Township, Tioga County, Pa.; Consumptive Use of Up to 6.0000 mgd; Approval Date: May 13, 2020.

12. ARD Operating, LLC; Pad ID: Texas Blockhouse F&G B; ABR-20100207.R2; Pine Township, Lycoming County, Pa.; Consumptive Use of Up to 3.0000 mgd; Approval Date: May 13, 2020.

13. ARD Operating, LLC; Pad ID: COP Tr 231 C; ABR-20100304.R2; Boggs & Snowshoe Townships, Centre County, Pa.; Consumptive Use of Up to 3.0000 mgd; Approval Date: May 13, 2020.

14. SWEPI LP; Pad ID: Parthemer 284; ABR-20100311.R2; Charleston Township, Tioga County, Pa.; Consumptive Use of Up to 4.0000 mgd; Approval Date: May 13, 2020.

15. SWEPI LP; Pad ID: Cummings 823; ABR-20100350.R2; Chatham Township, Tioga County, Pa.; Consumptive Use of Up to 4.0000 mgd; Approval Date: May 13, 2020.

16. SWEPI LP; Pad ID: Waskiewicz 445; ABR-20100330.R2; Delmar Township, Tioga County, Pa.; Consumptive Use of Up to 1.0000 mgd; Approval Date: May 13, 2020.

17. Seneca Resources Company, LLC; Pad ID: CRV Pad C09D; ABR-201504001.R1; Shippen Township, Cameron County, Pa.; Consumptive Use of Up to 4.0000 mgd; Approval Date: May 13, 2020.

18. EOG Resources, Inc.; Pad ID: HARKNESS 2H; ABR-20091220.R2; Springfield Township, Bradford County, Pa.; Consumptive Use of Up to 1.9990 mgd; Approval Date: May 17, 2020.

19. Chesapeake Appalachia, L.L.C.; Pad ID: Everbreeze; ABR-20100408.R2; Troy Township, Bradford County, Pa.; Consumptive Use of Up to 7.5000 mgd; Approval Date: May 17, 2020.

20. Chesapeake Appalachia, L.L.C.; Pad ID: Henry; ABR-20100421.R2; Auburn Township, Susquehanna County, Pa.; Consumptive Use of Up to 7.5000 mgd; Approval Date: May 17, 2020.

21. Chesapeake Appalachia, L.L.C.; Pad ID: Koromlan; ABR-20100423.R2; Albany Township, Bradford County, Pa.; Consumptive Use of Up to 7.5000 mgd; Approval Date: May 17, 2020

22. Repsol Oil & Gas USA, LLC; Pad ID: ZIEGLER (03 001) E; ABR-20100424.R2; Columbia Township, Bradford County, Pa.; Consumptive Use of Up to 6.0000 mgd; Approval Date: May 17, 2020.

23. SWEPI LP; Pad ID: Halteman 611; ABR-20100406.R2; Delmar Township, Tioga County, Pa.; Consumptive Use of Up to 4.0000 mgd; Approval Date: May 17, 2020.

24. SWEPI LP; Pad ID: Lange 447; ABR-20100428.R2; Delmar Township, Tioga County, Pa.; Consumptive Use of Up to 1.0000 mgd; Approval Date: May 17, 2020.

25. Cabot Oil & Gas Corporation; Pad ID: ChambersO P1; ABR-201504004.R1; Harford Township, Susquehanna County, Pa.; Consumptive Use of Up to 5.0000 mgd; Approval Date: May 17, 2020.

26. Chesapeake Appalachia, L.L.C.; Pad ID: Blanche Poulsen; ABR-202005002; Rush Township, Susquehanna County, Pa.; Consumptive Use of Up to 7.5000 mgd; Approval Date: May 18, 2020.

27. Chesapeake Appalachia, L.L.C.; Pad ID: Amburke; ABR-20100438.R2; Auburn Township, Susquehanna County, Pa.; Consumptive Use of Up to 7.5000 mgd; Approval Date: May 20, 2020.

28. Chief Oil & Gas, LLC; Pad ID: Oliver Drilling Pad #1; ABR-20100425.R2; Springville Township, Susquehanna County, Pa.; Consumptive Use of Up to 2.0000 mgd; Approval Date: May 20, 2020.

29. XTO Energy, Inc.; Pad ID: MARQUARDT UNIT 8517H; ABR-20100417.R2; Penn Township, Lycoming County, Pa.; Consumptive Use of Up to 4.0000 mgd; Approval Date: May 20, 2020.

30. Cabot Oil & Gas Corporation; Pad ID: KelleyP P1; ABR-20100310.R2; Dimock Township, Susquehanna County, Pa.; Consumptive Use of Up to 5.0000 mgd; Approval Date: May 20, 2020.

31. Cabot Oil & Gas Corporation; Pad ID: BlaisureJo P1; ABR-20100325.R2; Jessup Township, Susquehanna County, Pa.; Consumptive Use of Up to 3.5750 mgd; Approval Date: May 20, 2020.

32. Cabot Oil & Gas Corporation; Pad ID: BlaisureJe P1; ABR-20100431.R2; Dimock Township, Susquehanna County, Pa.; Consumptive Use of Up to 5.000 mgd; Approval Date: May 20, 2020.

33. Chesapeake Appalachia, L.L.C.; Pad ID: Angie; ABR-20100441.R2; Auburn Township, Susquehanna County, Pa.; Consumptive Use of Up to 7.5000 mgd; Approval Date: May 21, 2020.

34. Chesapeake Appalachia, L.L.C.; Pad ID: Holtan; ABR-20100446.R2; Auburn Township, Susquehanna County, Pa.; Consumptive Use of Up to 7.5000 mgd; Approval Date: May 21, 2020.

35. Chesapeake Appalachia, L.L.C.; Pad ID: Nickolyn; ABR-20100436.R2; Auburn Township, Susquehanna County, Pa.; Consumptive Use of Up to 7.5000 mgd; Approval Date: May 21, 2020.

36. Chesapeake Appalachia, L.L.C.; Pad ID: Way; ABR-20100448.R2; Wyalusing Township, Bradford County, Pa.; Consumptive Use of Up to 7.5000 mgd; Approval Date: May 21, 2020.

37. Repsol Oil & Gas USA, LLC; Pad ID: CALABRO T1; ABR-201505006.R1; Orange Town, Schuyler County, NY; Consumptive Use of Up to 0.0800 mgd; Approval Date: May 27, 2020.

38. Repsol Oil & Gas USA, LLC; Pad ID: WEBSTER T1; ABR-201505008.R1; Orange Town, Schuyler County, NY; Consumptive Use of Up to 0.0800 mgd; Approval Date: May 27, 2020.

39. Repsol Oil & Gas USA, LLC; Pad ID: DRUMM G2; ABR-201505009.R1; Bradford Town, Steuben County, NY; Consumptive Use of Up to 0.0800 mgd; Approval Date: May 27, 2020.

40. Chesapeake Appalachia, L.L.C.; Pad ID: Pauliny; ABR-20100508.R2; Terry Township, Bradford County, Pa.; Consumptive Use of Up to 7.5000 mgd; Approval Date: May 29, 2020.

41. Chesapeake Appalachia, L.L.C.; Pad ID: Ballibay; ABR-20100409.R2; Herrick Township, Bradford County, Pa.; Consumptive Use of Up to 7.5000 mgd; Approval Date: May 29, 2020.

42. XTO Energy, Inc.; Pad ID: PA Tract C; ABR-202005006; Chapman Township, Clinton County, Pa.; Consumptive Use of Up to 4.0000 mgd; Approval Date: May 29, 2020.

Authority: Pub. L. 91-575, 84 Stat. 1509 et seq., 18 CFR parts 806, 807, and 808

Dated June 24, 2020.
Jason E. Oyler,
General Counsel and Secretary to the Commission.

[FR Doc. 2020-13953 Filed 6-26-20; 8:45 am]

BILLING CODE 7040-01-P